DEPARTMENT OF DEFENSE

Office of the Secretary

[Docket ID: DOD-2011-OS-0090]

Privacy Act of 1974; Notice of a Computer Matching Program

AGENCY: Defense Manpower Data Center, Department of Defense (DoD).

ACTION: Notice of a Computer Matching Program.

SUMMARY: Subsection (e)(12) of the Privacy Act of 1974, as amended, (5 U.S.C. 552a) requires agencies to publish advance notice of any proposed or revised computer matching program by the matching agency for public comment; however, this notification will be completed by the DoD, the recipient agency. The DoD, as the recipient agency under the Privacy Act is hereby giving notice to the record subjects of a computer matching program between the Office of Personnel Management (OPM), the source agency and Defense Manpower Data Center (DMDC) that their records are being matched by computer. The purpose of this agreement is for disclosure of Federal Employees Health Benefits (FEHB) Program and Federal employment information to DMDC. This disclosure by OPM will provide the DoD with the FEHB eligibility and Federal employment information necessary to determine continuing eligibility for the TRICARE Reserve Select (TRS) and TRICARE Retired Reserve (TRR) programs.

DATES: This proposed action will become effective September 14, 2011 and matching may commence unless changes to the matching program are required due to public comments or by Congressional or Office of Management and Budget objections. Any public comment must be received before the effective date.

ADDRESSES: You may submit comments, identified by docket number and title, by any of the following methods:

• Federal Rulemaking Portal: http://www.regulations.gov. Follow the instructions for submitting comments.

• Mail: Federal Docket Management System Office, 1160 Defense Pentagon, Washington, DC 20301-1160.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Samuel P. Jenkins, Director for Privacy, Defense Privacy and Civil Liberties Office, 1901 S. Bell Street, Suite 920, Arlington, VA 22202-4512, or by phone at (703) 607-2943.

SUPPLEMENTARY INFORMATION: Pursuant to subsection (o) of the Privacy Act of 1974, as amended, (5 U.S.C. 552a), the DMDC and OPM have concluded an agreement to conduct a computer matching program between the agencies. The purpose of this agreement is to verify an individual's continuing eligibility for the TRICARE Reserve Select (TRS) and TRICARE Retired Reserve (TRR) Programs.

The parties to this agreement have determined that a computer matching program is the most efficient, expeditious, and effective means of obtaining the information needed by the OPM to identify individual's ineligible to continue the TRICARE Reserve Select and TRICARE Retired Reserve (TRR) Programs. If this identification is not accomplished by computer matching, but is done manually, the cost would be prohibitive and it is possible that not all individuals would be identified.

A copy of the computer matching agreement between OPM and DMDC is available upon request to the public. Requests should be submitted to the address caption above or to the Office of Personnel Management, 1900 E Street, NW., Room 5415, Washington, DC 20415.

Set forth below is the notice of the establishment of a computer matching program required by paragraph 6.c. of the Office of Management and Budget Guidelines on computer matching published in the Federal Register at 54 FR 25818 on June 19, 1989.

The matching agreement, as required by 5 U.S.C. 552a(r) of the Privacy Act, and an advance copy of this notice was submitted on August 9, 2011, to the House Committee on Government Reform, the Senate Committee on Governmental Affairs, and the Administrator of the Office of Information and Regulatory Affairs, Office of Management and Budget pursuant to paragraph 4d of Appendix I to OMB Circular No. A-130, `Federal Agency Responsibilities for Maintaining Records about Individuals,' dated February 8, 1996 (61 FR 6435).

Dated: August 9, 2011.
Aaron Siegel,
Alternate OSD Federal Register Liaison Officer, Department of Defense.

Notice of a Computer Matching Agreement Between the Office of Personnel Management and the Defense Manpower Data Center, Department of Defense for Disclosure of Federal Employees Health Benefits (FEHB) Program Eligibility in Determining Eligibility for Tricare Reserve Select (TRS) and TRICARE Retired Reserve Programs (TRR).

A. Participating Agencies: Participants in this computer matching program are the Office of Personnel Management (OPM) and the Defense Manpower Data Center (DMDC) of the Department of Defense (DoD). The DMDC is the recipient agency and the OPM is the source agency.

B. Purpose of the Match: The purpose of this agreement is to establish the conditions, safeguards and procedures under which the Office of Personnel Management (OPM) will disclose FEHB eligibility and Federal employment information to the Defense Manpower Data Center (DMDC), Defense Enrollment and Eligibility Reporting System Office (DEERS), and the Office of the Assistant Secretary of Defense (Reserve Affairs). This disclosure by OPM will provide the DoD with the FEHB eligibility and Federal employment information necessary to determine continuing eligibility for the TRICARE Reserve Select (TRS) and TRICARE Retired Reserve (TRR) programs.

C. Authority for Conducting the Match: This CMA is executed to comply with the Privacy Act of 1974 (section 552a of title 5 United States Code (U.S.C.), as amended, (as amended by Public Law (Pub. L.) 100-503, the Computer Matching and Privacy Protection Act (CMPPA) of 1988), the Office of Management and Budget (OMB) Circular A-130, titled “Management of Federal Information Resources” at 61 Federal Register (FR) 6435, February 20, 1996, and OMB guidelines pertaining to computer matching at 54 FR 25818, June 19, 1989. Section 706 of Public Law 109-364, the John Warner National Defense Authorization Act of 2007, amended section 1076d of title 10 U.S.C. to established the enhanced TRS benefit program as of October 1, 2007. Section 705 of Public Law 111-84, National Defense Authorization Act for Fiscal Year 2010, amended section 1076e of title 10 U.S.C. to establish the TRR benefit program as of October 29, 2009. Reserve Component (RC) Service members who are eligible for the FEHB program pursuant to chapter 89 of title 5 U.S.C. are not eligible to enroll in the TRS or TRR program. This agreement implements the additional validation processes needed by DoD to insure RC Service members eligible for the FEHB program may not enroll, or continue a current enrollment, in TRS or TRR.

The John Warner National Defense Authorization Act of 2007 (NDAA of 2007) established the enhanced TRICARE Reserve Select program as of Oct. 1, 2007. Selected Reserve members, who are eligible for FEHB under chapter 89 of title 5, U.S.C. are ineligible for TRICARE Reserve Select. This agreement implements the additional validation processes needed by DoD to insure Selected Reserve members eligible for FEHB are not enrolled in TRS. The National Defense Authorization Act for Fiscal Year 2010, Section 705 of Public Law 111-84, amended section 1076e of title 10 U.S.C. to establish the TRR health plan as of October 29, 2009.

D. Records to be Matched: The systems of records maintained by the respective agencies under the Privacy Act of 1974, as amended, 5 U.S.C. 552a, from which records will be disclosed for the purpose of this computer match are as follows:

OPM will use the system of records identified as OPM/GOVT-1 entitled “General Personnel Records,” at 76 FR 32997 (July 7, 2011).

DoD will use the SOR identified as DMDC 02 DoD, entitled “Defense Enrollment Eligibility Reporting System (DEERS), (August 9, 2009, 74 FR 39657).” SSNs of DoD TRS and TRR Sponsors will be released to OPM pursuant to the routine use “22” set forth in the system notice, which provides that data may be released to OPM “for support of the DEERS enrollment process and to identify individuals not entitled to health care under TRS and TRR.”

E. Description of Computer Matching Program: Under the terms of this matching agreement, DMDC will provide to OPM a file of records consisting of social security number (SSN), date of birth (DOB), and name for Service members of the Ready Reserve, Standby Reserve, and Retired Reserve of the Armed Forces of the United States. DMDC will update their database with FEHB program eligibility information from the OPM response file. OASD (RA) will be responsible for providing the verified information to the RCs to aid in processing of TRS and TRR eligibility determination.

OPM agrees to conduct two computer matches within a calendar year of the records of RC Service members provided by DMDC against the information found in OPM's EHRI for permanent employees in a current pay status. OPM will validate the identification of the RC records that matches against the Name, SSN and DOB provided by DMDC. OPM will provide a civilian agency indicator, the full FEHB Program Plan Code, a multiple record indicator, and a DOB match indicator. OPM will forward a response file to DMDC within 30 business days following the receipt of the initial finder file and for any subsequent files submitted.

F. Inclusive Dates of the Matching Program: This computer matching program is subject to public comment and review by Congress and the Office of Management and Budget. If the mandatory 30 day period for comment has expired and no comments are received and if no objections are raised by either Congress or the Office of Management and Budget within 40 days of being notified of the proposed match, the computer matching program becomes effective and the respective agencies may begin the exchange at a mutually agreeable time and thereafter on a quarterly basis. By agreement between OPM and DMDC, the matching program will be in effect for 18 months with an option to renew for 12 additional months unless one of the parties to the agreement advises the other by written request to terminate or modify the agreement.

G. Address for Receipt of Public Comments or Inquiries: Director, Defense Privacy Office, 1901 South Bell Street, Suite 920, Arlington, VA 22202-4512. Telephone (703) 607-2943.

[FR Doc. 2011-20677 Filed 8-12-11; 8:45 am]

BILLING CODE 5001-06-P